DEPARTMENT OF ENERGY

Federal Energy Regulatory Commission

[Docket No. CP09-459-000]

Egan Hub Storage, LLC; Notice of Request Under Blanket Authorization

September 3, 2009.

Take notice that on August 31, 2009, Egan Hub Storage, LLC (Egan Hub), filed in Docket No. CP09-459-000, a prior notice request pursuant to Sections 157.205, 157.208, 157.211, 157.212 and 157.213 of the Commission's regulations under the Natural Gas Act (NGA), for authorization to construct and operate facilities to connect the Egan Hub system to Kinder Morgan Louisiana Pipeline LLC (KMLP) in Acadia Parish, Louisiana in order to receive and deliver natural gas from and to KMLP, all as more fully set forth in the application which is on file with the Commission and open to public inspection. Egan Hub proposes to perform these activities under its blanket certificate issued October 7, 1996, in Docket No. CP96-199-000 [77 FERC ¶ 61,016 (1996)].

The filing may be viewed on the Web at http://www.ferc.gov using the “eLibrary” link. Enter the docket number excluding the last three digits in the docket number field to access the document. For assistance, contact FERC at FERCOnlineSupport@ferc.gov or call toll-free, (886) 208-3676 or TYY, (202) 502-8659.

Specifically, Egan Hub seeks authorization to construct, own, operate, and maintain a new pipeline tap on its Fourth Cavern Line 85, and associated connecting piping to the edge of the right-of-way, to receive and deliver natural gas at an interconnection with KMLP's interstate pipeline facilities, at a site selected by KMLP. Additionally, Egan Hub will own, operate and maintain a check electronic gas measurement (EGM) facility that KMLP will install at its meter and regulator (M&R) site. KMLP's facilities are designed primarily to receive revaporized liquefied natural gas (LNG) from the Sabine Pass LNG, L.P. LNG import terminal to be located in Cameron Parish, Louisiana.

Egan Hub also proposes the design and construction of approximately 15 feet of 16-inch diameter pipe, a single 24-inch by 24-inch by 16-inch tee tap and a 16-inch valve. The check EGM, to be constructed by KMLP within its M&R site, is to be owned and operated by Egan Hub. The project area is located within the corridor of Egan Hub's Fourth Cavern Project Line 85 at approximately milepost 6.9 in Acadia Parish, Louisiana. With the exception of the check EGM, the project area is entirely within the proposed workspace previously surveyed and approved for Egan Hub's Fourth Cavern Project. Egan Hub has estimated the total cost of constructing the facilities proposed herein to be $400,000. Egan Hub will bear all costs associated with constructing such facilities. The proposed in-service date for the interconnect facilities is March 1, 2010.

Any questions regarding this application may be directed to Lisa A. Moore, General manager, Rates and Certificates, Egan Hub Storage, LLC, P. O. Box 1642, Houston, Texas 77251-1642; phone (713)627-4102, FAX (713)627-5947.

Any person or the Commission's Staff may, within 60 days after the issuance of the instant notice by the Commission, file pursuant to Rule 214 of the Commission's Procedural Rules (18 CFR 385.214) a motion to intervene or notice of intervention and, pursuant to section 157.205 of the Commission's Regulations under the NGA (18 CFR 157.205) a protest to the request. If no protest is filed within the time allowed therefore, the proposed activity shall be deemed to be authorized effective the day after the time allowed for protest. If a protest is filed and not withdrawn within 30 days after the time allowed for filing a protest, the instant request shall be treated as an application for authorization pursuant to Section 7 of the NGA.

The Commission strongly encourages electronic filings of comments, protests, and interventions via the Internet in lieu of paper. See 18 CFR 385.2001(a) (1) (iii) and the instructions on the Commission's Web site (http://www.ferc.gov) under the “e-Filing” link. Persons unable to file electronically should submit an original and 14 copies of the protest or intervention to the Federal Energy regulatory Commission, 888 First Street, NE., Washington, DC 20426.

Kimberly D. Bose,
Secretary.

[FR Doc. E9-21866 Filed 9-10-09; 8:45 am]

BILLING CODE 6717-01-P